DEPARTMENT OF AGRICULTURE

Animal and Plant Health Inspection Service

7 CFR Parts 300 and 319

[Docket No. 02-026-2]

Importation of Fruits and Vegetables; Correction

AGENCY: Animal and Plant Health Inspection Service, USDA.

ACTION: Proposed rule; correction.

SUMMARY: We are correcting errors in the preamble to a proposed rule that would amend the fruits and vegetables regulations. This proposed rule was published in the Federal Register on October 1, 2002 (67 FR 61547-61564, Docket No. 02-026-1).

DATES: We invite you to comment on the proposed rule (Docket No. 02-026-1), as corrected by this document. We will consider all comments that we receive on or before December 2, 2002.

ADDRESSES: You may submit comments by postal mail/commercial delivery or by e-mail. If you use postal mail/commercial delivery, please send four copies of your comment (an original and three copies) to: Docket No. 02-026-1, Regulatory Analysis and Development, PPD, APHIS, Station 3C71, 4700 River Road Unit 118, Riverdale, MD 20737-1238. Please state that your comment refers to Docket No. 02-026-1. If you use e-mail, address your comment to regulations@aphis.usda.gov. Your comment must be contained in the body of your message; do not send attached files. Please include your name and address in your message and “Docket No. 02-026-2” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Inder P. Gadh, Import Specialist, Phytosanitary Issues Management Team, PPQ, APHIS, 4700 River Road Unit 140, Riverdale, MD 20737-1236; (301) 734-6799.

SUPPLEMENTARY INFORMATION: We published a proposed rule in the Federal Register on October 1, 2002 (67 FR 61547-61564, Docket No. 02-026-1) to amend the fruits and vegetables regulations to, among other things, provide for the importation of certain commodities from specified regions and recognize areas in several countries as free from certain fruit flies.

This document corrects errors in the SUPPLEMENTARY INFORMATION section of the proposed rule. Under the headings Tomatoes From Spain (page 61552, first column) and Peppers From Spain (page 61553, second column), we incorrectly stated that the Government of Spain provided APHIS with data that demonstrate that certain areas meet the criteria of the regulations and International Standards for Phytosanitary Measures (ISPM) No. 4 for freedom from Ceratitis capitata (Medfly). Medfly is present in Spain, and the phytosanitary measures contained in the regulations for peppers and tomatoes from Spain are designed to mitigate the risk of the tomatoes and peppers introducing Medfly.

In addition, under the heading Persimmons From the Republic of Korea (page 61553, third column), we incorrectly stated that the Government of the Republic of Korea had provided APHIS with data that demonstrate that the orchards where persimmons are grown are free of the pests of concern in accordance with the regulations and ISPM No. 4. While the information received from the Republic of Korea indicates that the pests of concern are not known to occur in the orchards, the orchards are not considered pest-free areas in accordance with the regulations and ISPM No. 4. As stated in the proposal, we believe that the proposed inspection, phytosanitary certificate, and labeling requirements are adequate to prevent the introduction of quarantine pests into the United States with persimmons imported from the Republic of Korea.

Therefore, this document corrects the SUPPLEMENTARY INFORMATION section of the proposal as follows:

SUPPLEMENTARY INFORMATION—(CORRECTED) 1. On page 61552, column 2, the last paragraph, beginning with the words “The Government of Spain,” is corrected to read as follows:

The Government of Spain has stated that pink or red tomatoes from the Murcia Province and the municipalities of Albuñol and Carchuna in the Granada Province of Spain would be produced, packed, and shipped in accordance with the systems approach described above. We believe that these measures would ensure that tomatoes from those areas would be free of Medfly. Therefore, we propose to amend §§ 319.56-2t and 319.56-2dd(a)(1) and (a)(7) to allow the importation of pink or red tomatoes grown in greenhouses in the Murcia Province and the municipalities of Albuñol and Carchuna in the Province of Granada in Spain.

2. On page 61553, column 2, the first paragraph under the heading Peppers From Spain, is corrected by removing the second sentence beginning with the word “Data”.

3. On page 61554, column 1, line 5, is corrected by removing the sentence beginning with the word “Data” and adding in its place the sentence “The information received from the Republic of Korea indicates that the pests of concern are not known to occur in the orchards.”

Done in Washington, DC, this 1st day of November 2002.
Peter Fernandez,
Acting Administrator, Animal and Plant Health Inspection Service.

[FR Doc. 02-28349 Filed 11-6-02; 8:45 am]

BILLING CODE 3410-34-P